COMMODITY FUTURES TRADING COMMISSION

SECURITIES AND EXCHANGE COMMISSION

[Release No. 34-63112, File No. 4-615]

Joint Public Roundtable on Issues Related to the Clearing of Credit Default Swaps

AGENCIES: Commodity Futures Trading Commission (“CFTC”) and Securities and Exchange Commission (“SEC”) (each, an “Agency,” and collectively, the “Agencies”).

ACTION: Notice of roundtable discussion; request for comment.

SUMMARY: On October 22, 2010, commencing at 9 a.m. and ending at 12 p.m., staff of the Agencies will hold a public roundtable discussion at which invited participants will discuss certain issues related to the clearing of Credit Default Swaps in the context of the Agencies rulemaking efforts pursuant to the Dodd-Frank Wall Street Reform and Consumer Protection Act (the “Act”). The discussion will be open to the public with seating on a first-come, first-served basis. Members of the public may also listen by telephone. Call-in participants should be prepared to provide their first name, last name, and affiliation. The information for the conference call is set forth below.

• US Toll-Free: (866) 844-9416.

• International Toll: 1-203-369-5026.

• Passcode: 8693978.

A transcript of the public roundtable discussion will be published on the CFTC's Web site at http://www.cftc.gov/LawRegulation/DoddFrankAct/OTC_7_DCORules.html. The roundtable discussion will take place in Lobby Level Hearing Room (Room 1000) at the CFTC's headquarters at Three Lafayette Centre, 1155 21st Street, NW., Washington, DC.

FOR FURTHER INFORMATION CONTACT: the CFTC's Office of Public Affairs at (202) 418-5080 or the SEC's Office of Public Affairs at (202) 551-4120.

SUPPLEMENTARY INFORMATION: The roundtable discussion will take place on Friday, October 22, 2010, commencing at 9 a.m. and ending at 12 p.m. Members of the public who wish to comment on the topics addressed at the discussion may do so via:

• Paper submission to David Stawick, Secretary, Commodity Futures Trading Commission, Three Lafayette Centre, 1155 21st Street, NW., Washington, DC 20581, or Elizabeth M. Murphy, Secretary, Securities and Exchange Commission, 100 F Street, NE., Washington, DC 20549-1090; or

• E-mail to DCORules@cftc.gov (all emails must reference “Dodd-Frank CDS Roundtable” in the subject field); and/or rule-comments@sec.gov or through the comment form available at: http://www.sec.gov/rules/other.shtml.

All submissions will be reviewed jointly by the Agencies. All comments must be in English or be accompanied by an English translation. All submissions provided to either Agency in any electronic form or on paper may be published on the website of the respective Agency, without review and without removal of personally identifying information. Please submit only information that you wish to make publicly available.

By the Securities and Exchange Commission.
Dated: October 15, 2010.
Elizabeth M. Murphy,
Secretary.
By the Commodity Futures Trading Commission.
David A. Stawick,
Secretary.

[FR Doc. 2010-26430 Filed 10-19-10; 8:45 am]

BILLING CODE P